ENVIRONMENTAL PROTECTION AGENCY

[FRL-8578-9]

Gulf of Mexico Program Management Committee Meeting

AGENCY: Environmental Protection Agency (EPA).

ACTION: Notice of meeting.

SUMMARY: Under the Federal Advisory Committee Act (Pub. L. 92-463), EPA gives notice of a meeting of the Gulf of Mexico Program (GMP) Management Committee (MC). For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Tuesday, July 8, 2008, from 1:30 p.m. to 5 p.m. and on Wednesday, July 9, 2008, from 8:30 a.m. to 12:30 p.m.

ADDRESSES: The meeting will be held at the Embassy Suites Hotel, 315 Julia Street, New Orleans, LA 70130, (504) 525-1993.

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: Gulf of Mexico Alliance Update & Development of Governors' Action Plan II; Upcoming Alliance Implementation Workshop; Coastal America Designation of Aquarium of the Americas; Gulf Business and Industry Initiatives; Binational Harmful Algal Bloom Pilot Update; NASA Remote Sensing Initiatives; MS River Monitoring Efforts; USGS Nutrient Loading Modeling Efforts; Gulf Regional Sediment Management Plan Update; Hypoxia Update.

The meeting is open to the public.

Dated: June 5, 2008.
Gloria D. Car,
Designated Federal Officer.

[FR Doc. E8-13231 Filed 6-11-08; 8:45 am]

BILLING CODE 6560-50-P